DEPARTMENT OF TRANSPORTATION

Maritime Administration

[Docket Number MARAD-2025-0096]

Deepwater Port License Application: ST LNG Deepwater Port Development Project

AGENCY: Maritime Administration, Department of Transportation.

ACTION: Notice of application.

SUMMARY: The Maritime Administration (MARAD) and the U.S. Coast Guard (USCG) announce they have received an application from ST LNG, LLC (ST LNG or Applicant) for the licensing of a deepwater port and that the application for the ST LNG Deepwater Port Development Project contains information sufficient to commence processing. This notice summarizes the Applicant's plans and the procedures that will be considered during the application review process.

DATES: The Deepwater Port Act of 1974, as amended, (the Act) requires at least one public hearing on this application to be held in the designated Adjacent Coastal State (ACS) not later than 240 days after publication of this notice and a decision on the application not later than 90 days after the final public hearing.

ADDRESSES: You may submit comments identified by DOT Docket Number MARAD-2025-0096 by any one of the following methods:

• Federal eRulemaking Portal: Go to http://www.regulations.gov. Search the docket number and follow the instructions for submitting comments.

• Mail or Hand Delivery: The Docket Management Facility is located at the U.S. Department of Transportation, 1200 New Jersey Avenue SE, West Building, Room W12-140, Washington, DC 20590. Documents may be delivered between 9 a.m. and 5 p.m., Monday through Friday, except on federal holidays.

Note: If you mail or hand-deliver your comments, we recommend that you include your name and a mailing address, an email address, and/or a telephone number in a cover page so that we can contact you if we have questions regarding your submission.

Instructions: All submissions received must include the agency name and specific docket number. All comments received will be posted without change to the docket at www.regulations.gov, including any personal information provided.

Privacy Act: Anyone can search the electronic form of all comments received into any of our dockets by the name of the individual submitting the comment (or signing the comment, if submitted on behalf of an association, business, labor union, etc.). For information on DOT's compliance with the Privacy Act, please visit https://www.transportation.gov/privacy.

FOR FURTHER INFORMATION CONTACT: Mr. Brian Barton, Maritime Administration, telephone 202-366-0302, email: Brian.Barton@dot.gov, or Mr. Patrick Clark, U.S. Coast Guard, telephone 202-372-1427, email: Patrick.W.Clark@uscg.mil. For questions regarding viewing the Docket, call Docket Operations, telephone: 202-366-9826.

SUPPLEMENTARY INFORMATION:

Receipt of Application

On June 9, 2025, MARAD and USCG received an application from the Applicant for all Federal authorizations required for a license to own, construct, and operate a deepwater port for the export of liquefied natural gas (LNG) as authorized by the Act, and implemented under 33 Code of Federal Regulations (CFR) Parts 148, 149, and 150. After a coordinated completeness review by MARAD, USCG, and cooperating Federal agencies, the application is deemed complete and contains information sufficient to initiate processing.

Background

The Act defines a deepwater port as any fixed or floating manmade structure other than a vessel, or any group of such structures, that are located beyond State seaward boundaries and used or intended for use as a port or terminal for the transportation, storage, and further handling of oil or natural gas for transportation to, or from, any State. A deepwater port includes all components and equipment, including pipelines, pumping or compressor stations, service platforms, buoys, mooring lines, and similar facilities that are proposed as part of a deepwater port to the extent they are located seaward of the high-water mark.

The Secretary of Transportation delegated to the Maritime Administrator authorities related to licensing deepwater ports (49 CFR 1.93(h)). Statutory and regulatory requirements for processing applications and licensing appear in 33 U.S.C. 1501 et seq. and 33 CFR part 148. Each application is considered on its merits.

In accordance with 33 U.S.C. 1504(f), MARAD and USCG, working in cooperation with other involved Federal agencies and departments, shall comply with the requirements of the National Environmental Policy Act (NEPA) of 1969 (42 U.S.C. 4321 et seq.). The U.S. Environmental Protection Agency (EPA), the U.S. Army Corps of Engineers (USACE), the National Oceanic and Atmospheric Administration (NOAA), the Bureau of Ocean Energy Management (BOEM), the Bureau of Safety and Environmental Enforcement (BSEE), and the Pipeline and Hazardous Materials Safety Administration (PHMSA), among others, participate in the processing of deepwater port applications and assist in the NEPA process. Each agency may participate in scoping and/or other public meeting(s) and may incorporate the MARAD/USCG environmental impact review for purposes of their jurisdictional permitting processes, to the extent applicable. Substantive comments related to this deepwater port application addressed to the EPA, USACE, or other Federal agencies should note the Federal docket number, MARAD-2025-0096. Each comment will be incorporated into the Department of Transportation (DOT) docket and considered as the environmental impact analysis is developed to ensure consistency with the NEPA process. All connected actions, permits, approvals, and authorizations will be considered during the processing of the ST LNG deepwater port license application.

MARAD, in issuing this Notice of Application pursuant to 33 U.S.C. 1504(c), must designate as an ACS any coastal state which (A) would be directly connected by pipeline to a deepwater port as proposed in an application, or (B) would be located within 15 nautical miles of any such proposed deepwater port (33 U.S.C. 1508(a)(1)). Pursuant to the criteria provided in the Act, Texas is the designated ACS for this application. Any other State with an interest relating to the deepwater port proposed in an application will have the opportunity to make its views known to, and will be given full consideration by, MARAD regarding the location, construction, and operation of the deepwater port.

The Act directs that at least one public hearing take place in each ACS, which in this case is Texas. Additional public meetings may be conducted to solicit comments on the environmental analysis to include public scoping meetings or meetings to discuss the Draft Environmental Impact Statement prepared in accordance with NEPA.

MARAD, in coordination with USCG, will publish additional Federal Register notices with information regarding these public meeting(s) and hearing(s) and other procedural milestones, including the NEPA environmental impact review. The Maritime Administrator's decision, and other key documents, will be filed in the public docket for the application at docket number MARAD-2025-0096.

The Act imposes a strict timeline for processing an application. When MARAD and USCG determine that an application is complete (i.e., contains information sufficient to commence processing), the Act directs that all public hearings on the application be concluded within 240 days from the date the Notice of Application is published.

Within 45 days after the final hearing, the Governor of the ACS, which in this case is the Governor of Texas, may notify MARAD of their approval, approval with conditions, or disapproval of the application. If such approval, approval with conditions, or disapproval is not provided to the Maritime Administrator by that time, approval shall be conclusively presumed. MARAD may not issue a license without the explicit or presumptive approval of the Governor of the ACS. During this 45-day period, the Governor may also notify MARAD of inconsistencies between the application and State programs relating to environmental protection, land and water use, and coastal zone management. In this case, MARAD may condition the license to make it consistent with such state programs (33 U.S.C. 1508(b)(1)(D)). MARAD will not consider written approvals or disapprovals of the application from the Governor of the ACS until commencement of the 45-day period after the final public hearing is completed. The Maritime Administrator must render a decision on the application within 90 days after the final hearing.

Should a favorable record of decision be rendered, and a license be issued, MARAD may include specific conditions related to design, construction, operations, environmental permitting, monitoring and mitigation, and financial responsibilities. If a license is issued, USCG, in coordination with other agencies as appropriate, would review and approve the deepwater port's engineering, design, and construction; operations/security procedures; waterways management and regulated navigation areas; maritime safety and security requirements; risk assessment; and compliance with domestic and international laws and regulations for vessels that may call on the port. The deepwater port would be designed, constructed, and operated in accordance with applicable codes and standards.

In addition, the installation of pipelines and other structures may require permits under Section 404 of the Clean Water Act and Section 10 of the Rivers and Harbors Act, which are administered by the USACE.

Permits from the EPA may also be required pursuant to the provisions of the Clean Air Act, as amended, and the Clean Water Act, as amended.

Summary of the Application

The application proposes the ownership, construction, operation, and eventual decommissioning of the ST LNG deepwater port terminal to be located approximately 10.4 nautical miles (19.2 kilometers) offshore Matagorda, Texas. When fully realized, the project would involve four 2.1 million tonnes per annum (MTPA) liquefaction systems installed in the Brazos Outer Continental Shelf Lease Block 476 (BA-476), in approximately 65 to 72 feet of water. The proposed ST LNG deepwater port would export LNG up to 8.4 MTPA.

The proposed ST LNG deepwater port would consist of fixed and floating components. These components would include a 5.5-mile, 30-inch pipeline lateral with a connection hub, four feeder lines to the connection hub, four gas treatment platforms, four liquefaction platforms, four accommodation and utility platforms, four LNG transfer platforms, thirty-six mooring dolphins, four converted LNG carriers, and three tugs.

The LNG would be loaded onto standard LNG carriers with cargo capacities between 125,000 and 180,000 cubic meters (m ³) (average expected size is 146,000 m ³) for the export of LNG, including to Free Trade Agreement (FTA) and non-FTA nations.

The project would be completed in four phases. Phase 1 construction would include three large platforms (a gas treatment platform, an LNG liquefaction platform, and an accommodations and utility platform), one LNG transfer platform, nine mooring dolphins, one floating storage unit (FSU), and interconnected lateral pipelines. Each phase would produce 2.1 MTPA of LNG.

The feed gas supply to the project would originate from the Tres Palacios Natural Gas Storage and Trading Hub and the Williams Markham Gas Processing Plant in Texas through the existing Transco 30-inch pipeline. The gas would be transported to the project via a new 5.5-mile, 30-inch lateral pipeline to an interconnection hub at the deepwater port. From the hub, four feeder lines would transport the gas to each phase of the deepwater port.

For more information, please contact either Mr. Brian Barton, MARAD, or Mr. Patrick Clark, USCG, as listed in the FOR FURTHER INFORMATION CONTACT section of this document.

(Authority: 33 U.S.C. 1501, et seq.; 49 CFR 1.93(h).)

By Order of the Maritime Administration.
T. Mitchell Hudson, Jr.
Secretary, Maritime Administration.

[FR Doc. 2025-12406 Filed 7-3-25; 8:45 am]

BILLING CODE 4910-81-P